DEPARTMENT OF JUSTICE

Antitrust Division

Notice Pursuant to the National Cooperative Research and Production Act of 1993—Airborne Law Enforcement Accreditation Commission, Inc.

Notice is hereby given that, on February 9, 2005, pursuant to section 6(a) of the National Cooperative Research and Production Act of 1993, 15 U.S.C. 4301 et seq. (“the Act”), Airborne Law Enforcement Accreditation Commission, Inc. (“ALEAC”) has filed written notifications simultaneously with the Attorney General and the Federal Trade Commission disclosing (1) the name and principal place of business of the standards development organization and (2) the nature and scope of its standards development activities. The notifications were filed for the purpose of involving the Act's provisions limiting the recovery of antitrust plaintiffs to actual damages under specified circumstances.

Pursuant to section 6(b) of the Act, the name and principal place of business of the standards development organization is: Airborne Law Enforcement Accreditation Commission, Inc., Lakeside, CA. The nature and scope of ALEAC's standards development activities are: to develop administrative, operational safety standards for law enforcement aviation units.

Dorothy B. Fountain,
Deputy Director of Operations, Antitrust Division.

[FR Doc. 05-5888 Filed 3-24-05; 8:45 am]

BILLING CODE 4410-11-M